FEDERAL COMMUNICATIONS COMMISSION

47 CFR Part 73

[MB Docket No. 23-406; RM-11969; DA 24-199; FR ID 209372]

Television Broadcasting Services; Greenville, South Carolina; Correction

AGENCY: Federal Communications Commission.

ACTION: Final rule; correction.

SUMMARY: The Federal Communications Commission published a document in the Federal Register of March 13, 2024, concerning a rulemaking filed by Carolina Christian Broadcasting, Inc., licensee of WGGS-TV, channel 2, Greenville, South Carolina, requesting substitution of channel 29 for channel 2 at Greenville in the Table of TV Allotments. The document contained an incorrect effective date.

DATES: Effective March 21, 2024.

FOR FURTHER INFORMATION CONTACT: Joyce Bernstein, Media Bureau, at (202) 418-1647 or Joyce.Bernstein@fcc.gov.

SUPPLEMENTARY INFORMATION:

Correction

In FR Doc. 2024-05307, in the Federal Register of March 13, 2024, on page 18364, in the second column, correct the DATES caption to read:

DATES:

Effective date: This rule is effective March 21, 2024.

Applicability date: This rule is applicable beginning March 13, 2024.

Dated: March 14, 2024.
Thomas Horan,
Chief of Staff, Media Bureau.

[FR Doc. 2024-05987 Filed 3-20-24; 8:45 am]

BILLING CODE 6712-01-P